DEPARTMENT OF TRANSPORTATION

Office of the Secretary

Aviation Proceedings, Agreements Filed the Week Ending May 5, 2006

The following Agreements were filed with the Department of Transportation under the sections 412 and 414 of the Federal Aviation Act, as amended (49 U.S.C. 1382 and 1384) and procedures governing proceedings to enforce these provisions. Answers may be filed within 21 days after the filing of the application.

Docket Number: OST-2006-24688.

Date Filed: May 1, 2006.

Parties: Members of the International Air Transport Association.

Subject:

Mail Vote 488—Resolution 010o,

TC3 Within South East Asia,

Special Passenger Amending Resolution from Chinese

Taipei to South East Asia.

Intended effective date: May 15, 2006.

Renee V. Wright,
Program Manager, Docket Operations, Federal Register Liaison.

[FR Doc. E6-8044 Filed 5-24-06; 8:45 am]

BILLING CODE 4910-9X-P